DEPARTMENT OF HOUSING AND URBAN DEVELOPMENT

[Docket No. FR-5915-N-10]

60-Day Notice of Proposed Information Collection: Small Area Fair Market Rent Demonstration Evaluation

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 21, 2016.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone (202) 402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone (202) 402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

Copies of available documents submitted to OMB may be obtained from Ms. Guido.

SUPPLEMENTARY INFORMATION: This notice informs the public that HUD is seeking approval from OMB for the information collection described in Section A.

A. Overview of Information Collection

Title of Information Collection: Small Area Fair Market Rent Demonstration Evaluation.

OMB Approval Number: N/A.

Type of Request: New.

Description of the need for the information and proposed use: HUD generally publishes a single FMR for each metropolitan area and provides public housing agencies with discretion to vary local voucher payment standards between 90 and 110 percent of the Fair Market Rent (FMR) (unless HUD approves an exception). The SAFMR demonstration is testing the alternative approach of setting FMRs at the ZIP Code level. The core hypothesis is that this will significantly expand the ability of Housing Choice Vouchers (HCV) holders to access housing in neighborhoods with high-quality schools, low crime rates, and other indicators of opportunity, as well as integrated neighborhoods in furtherance of HUD's goal of affirmatively furthering fair housing.

HUD is evaluating the SAFMR demonstration and an important consideration in this evaluation is how voucher holders and landlords perceive the shift from traditional area-wide FMRs to SAFMRs. HUD will look into whether both existing and new voucher holders understood how the change to using SAFMRs affected their housing options and whether it led movers to search in new neighborhoods or affected the rate of moving of existing voucher holders. Similarly, HUD wants to know whether landlords were aware of the change in the HCV program and whether this affected their willingness to rent to voucher holders and the level at which they set rents. In order to address these perceptions, 70 tenants and 35 landlords will be interviewed in the areas served by the five PHAs that are in the SAFMR demonstration: Housing Authority of Cook County (IL); Housing Authority of the City of Long Beach (CA); Chattanooga (TN) Housing Authority; Town of Mamaroneck (NY) Housing Authority; Housing Authority of the City of Laredo (TX); and two PHAs from the Dallas metropolitan area—Dallas Housing Authority (TX), and the Plano Housing Authority (TX). To build rapport during recruitment, by acknowledging the value of their time, an incentive payment of $20 for tenants and $40 for landlords will be made.

Information collection | Number of respondents | Frequency of response | Responses per annum | Burden hour per response | Annual burden hours | Cost per response | Annual cost
Tenants | 70 | 1 | 1 | 0.5 | 35 | $20 | $1,400
Landlords | 35 | 1 | 1 | 1 | 35 | 40 | 1,400
Total | 105 |  |  |  | 70 |  | 2,800

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 8, 2016.
Katherine M. O'Regan,
Assistant Secretary, Office of Policy Development and Research.

[FR Doc. 2016-22722 Filed 9-20-16; 8:45 am]

BILLING CODE 4210-67-P